FEDERAL COMMUNICATIONS COMMISSION

[DA-01-2112]

Public Safety 700 MHz Band—Changes to Regional Planning Boundaries

AGENCY: Federal Communications Commission.

ACTION: Notice.

SUMMARY: This document, released by the Commission's Wireless Telecommunications Bureau (“WTB”), accepts and approves the decisions of Connecticut and Michigan to “opt out” of their assigned planning regions for purposes of the regional planning process established by the Commission for the General Use channels in the 700 MHz public safety band. The intended effect of this document is to provide interested persons with notice of the WTB's actions and the specific “opt out” decisions made by Connecticut and Michigan.

ADDRESSES: The complete text of this Public Notice, including the attachment, is available for inspection and copying during regular business hours at the FCC Reference Center, Portals II, 445—12th Street, S.W., Room CY-A257, Washington, D.C., 20554. It also may be purchased from the Commission's duplicating copy contractor, Qualex International, Portals II, 445—12th Street, S.W., Room CY-B402, Washington, D.C. 20554. The full text of the Public Notice including the attachment is available online at www.fcc.gov/Bureaus/Wireless/Public_Notices/2001/da012112.doc.

FOR FURTHER INFORMATION CONTACT: Bert Weintraub, Public Safety and Private Wireless Division, WTB, at (202) 418-0680 or by e-mail: publicsafety@fcc.gov. Alternative formats of this Public Notice are available to persons with disabilities by contacting Martha Contee at (202) 418-0260 or TTY (202) 418-2555.

SUPPLEMENTARY INFORMATION: Following is a summary of Public Notice, DA 01-2112 (rel. Sept. 10, 2001). In 1998, the FCC decided that the 700 MHz regional planning committees would be based on the same fifty-five planning regions used in the 800 MHz band. The FCC, however, also decided to allow states or territories not in regions defined by state boundaries to “opt out” of their existing regions to form or join a planning region that corresponds with their state's boundaries. See First Report and Order and Third Notice of Proposed Rulemaking, WT Docket No. 96-86, 63 FR 58645 (Nov. 2, 1998). The deadline date for reporting “opt out” decisions was July 2, 2001. See Public Notice, 66 FR 13739 (Mar. 7, 2001), and Second Memorandum Opinion and Order, WT Docket No. 96-86, 65 FR 53641 (Sept. 5, 2000). (Pursuant to timely filed requests, however, the deadline date was extended until November 2, 2001, and January 2, 2002, for the 700 MHz Public Safety Band Region 42 RPC and the 700 MHz Public Safety Band Region 8 RPC, respectively.)

Connecticut was eligible to “opt out” because it was part of Region 8 and Region 19; Michigan was eligible to “opt out” because it comprised Region 21 and part of Region 54. The Public Notice announces the WTB's acceptance and approval of the Connecticut and Michigan decisions and it includes an attachment setting forth the 700 MHz planning regions as modified as a result of these “opt out” decisions. The attachment also corrects several typographical errors/omissions that appeared on earlier versions of the list of planning regions.

Federal Communications Commission.
D'wana R. Terry,
Chief, Public Safety and Private Wireless Division, Wireless Telecommunications Bureau.

[FR Doc. 01-25306 Filed 10-9-01; 8:45 am]

BILLING CODE 6712-01-P